DEPARTMENT OF COMMERCE

International Trade Administration

Agency Information Collection Activities; Submission to the Office of Management and Budget (OMB) for Review and Approval; Comment Request; Application for Export Trade Certificate of Review

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on June 8, 2021 (86 FR 3048) during a 60-day comment period. This notice allows for an additional 30 days for public comments.

Agency: International Trade Administration, Commerce.

Title: Export Trade Certificate of Review.

OMB Control Number: 0625-0125.

Form Number(s): ITA-4093P.

Type of Request: Extension of a current information collection.

Number of Respondents: 9.

Average Hours per Response: 32 hours (application); 2 hours (annual report).

Burden Hours: 440 hours.

Needs and Uses: The collection of information is necessary for both the Departments of Commerce and Justice to conduct an analysis, in order to determine whether the applicant and its members are eligible to receive the protection of an Export Trade Certificate of Review and whether the applicant's proposed export-related conduct meets the standards in Section 303(a) of the Act. The collection of information constitutes the essential basis of the statutory determinations to be made by the Secretary of Commerce and the Attorney General.

Affected Public: Business or other for-profit organizations; not-for-profit institutions, and state, local or tribal government.

Frequency: Application for an Export Trade Certificate of Review is voluntary, and submission of an application form is required each time an entity of the affected public applies for a new or amended Export Trade Certificate of Review. Completion of an annual report is required one time per year from existing Certificate holders.

Respondent's Obligation: Voluntary.

Legal Authority: Title III of the Export Trading Company Act of 1982, 15 U.S.C. 4011-4021.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0625-0125.

Sheleen Dumas,
Department PRA Clearance Officer, Office of the Chief Information Officer, Commerce Department.

[FR Doc. 2021-17439 Filed 8-13-21; 8:45 am]

BILLING CODE 3510-DR-P